ENVIRONMENTAL PROTECTION AGENCY

40 CFR Part 80

[FRL-6940-4]

RIN 2060-AI60

Petition by American Samoa for Exemption From Anti-Dumping Requirements for Conventional Gasoline: Delay of Effective Date

AGENCY: Environmental Protection Agency.

ACTION: Final rule; delay of effective date.

SUMMARY: In accordance with the memorandum of January 20, 2001, from the Assistant to the President and Chief of Staff, entitled “Regulatory Review Plan,” published in the Federal Register on January 24, 2001, this action temporarily delays for 60 days the effective date of the rule entitled Petition by American Samoa for Exemption from Anti-Dumping Requirements for Conventional Gasoline, published in the Federal Register on November 29, 2000, 65 FR 71067. That rule grants a petition by the Territory of American Samoa for exemption from the Clean Air Act's anti-dumping requirements for gasoline sold in the United States after January 1, 1995. To the extent that 5 U.S.C. 553 or 42 U.S.C. 7607(d) applies to this action, it is exempt from notice and comment because it constitutes a rule of procedure under 5 U.S.C. 553(b)(A). Alternatively, the Agency's implementation of this rule without opportunity for public comment, effective immediately upon publication today in the Federal Register, is based on the good cause exceptions in 5 U.S.C. 553(b)(B) and 553(d)(3), in that seeking public comment is impracticable, unnecessary and contrary to the public interest. The temporary 60-day delay in effective date is necessary to give Agency officials the opportunity for further review and consideration of new regulations, consistent with the Assistant to the President's memorandum of January 20, 2001. Given the imminence of the effective date, seeking prior public comment on this temporary delay would have been impractical, as well as contrary to the public interest in the orderly promulgation and implementation of regulations.

DATES: The effective date of the rule titled Petition by American Samoa for Exemption from Anti-Dumping Requirements for Conventional Gasoline, published in the Federal Register on November 29, 2000, at 65 FR 71067, is delayed for 60 days, from January 29, 2001 to a new effective date of March 30, 2001.

FOR FURTHER INFORMATION CONTACT: Marilyn Winstead McCall at (202) 564-9029, facsimile: (202) 565-2085, e-mail address: McCall.mwinstead@epamail.epa.gov.

Dated: January 25, 2001.
W. Michael McCabe,
Acting Administrator.

[FR Doc. 01-2559 Filed 1-26-01; 8:45 am]

BILLING CODE 6560-50-P